ARCHITECTURAL AND TRANSPORTATION BARRIERS COMPLIANCE BOARD

36 CFR Part 1195

[Docket No. 2004-1]

RIN 3014-AA11

Americans With Disabilities Act (ADA) Accessibility Guidelines for Passenger Vessels

AGENCY: Architectural and Transportation Barriers Compliance Board.

ACTION: Availability of draft guidelines.

SUMMARY: The Architectural and Transportation Barriers Compliance Board (Access Board) has placed in the docket and on its Web site for public review and comment draft guidelines which address accessibility to and in passenger vessels which are permitted to carry more than 150 passengers or more than 49 overnight passengers. In addition, the draft addresses all ferries regardless of size and passenger capacity, and certain tenders which carry 60 or more passengers. Comments will be accepted on the draft guidelines and the Access Board will consider those comments prior to issuing a notice of proposed rulemaking.

DATES: Comments should be received by September 5, 2006. Comments received after this date will be considered to the extent practicable.

ADDRESSES: You may submit comments, identified by Docket No. 2004-1, by any of the following methods:

Federal eRulemaking Portal: http://www.regulations.gov. Follow the instructions for submitting comments.

E-mail: pvag@access-board.gov. Include Docket No. 2004-1 in the subject line of the message.

Fax: (202) 272-0081.

Mail or Hand Delivery: Office of Technical and Information Services, Architectural and Transportation Barriers Compliance Board, 1331 F Street, NW., suite 1000, Washington, DC 20004-1111.

Comments will be available for inspection at the above address from 9 a.m. to 5 p.m. on regular business days.

FOR FURTHER INFORMATION CONTACT: Paul Beatty, Office of Technical and Information Services, Architectural and Transportation Barriers Compliance Board, 1331 F Street, NW., suite 1000, Washington, DC 20004-1111. Telephone number (202) 272-0012 (voice); (202) 272-0082 (TTY); Electronic mail address: pvag@access-board.gov.

SUPPLEMENTARY INFORMATION: In 1998, the Access Board established a 21-member Federal advisory committee to provide recommendations to assist the Board in developing passenger vessel accessibility guidelines. The committee included disability organizations, industry trade groups, State and local government agencies, and passenger vessel operators. The Passenger Vessel Access Advisory Committee (PVAAC) met nine times between September 1998 and September 2000 and submitted a final report “Recommendations for Accessibility Guidelines for Passenger Vessels” to the Board in December 2000. The PVAAC report provided recommendations on access to elements, rooms, spaces, and facilities on passenger vessels and how to provide access on and off such vessels.

The Access Board convened an ad hoc committee of Board members to review the PVAAC report. After reviewing the PVAAC report in detail, the Board's ad hoc committee prepared draft guidelines addressing accessibility to and in passenger vessels which carry more than 150 passengers or more than 49 overnight passengers. The Access Board made the recommendations of the ad hoc committee available in the form of draft guidelines for public review and comment. A notice of availability of the draft guidelines was published in the Federal Register (69 FR 69244; November 26, 2004). At the same time the 2004 draft was released, the Board also published an advance notice of proposed rulemaking (ANPRM) on small passenger vessels (69 FR 69245; November 26, 2004). In addition to seeking written comment, the Board held public hearings in Washington, DC and Los Angeles, CA.

Over 90 comments were received from the public in response to the publication of the 2004 draft and ANRPM. Key issues from the comments were identified for analysis. Issues regarding the 2004 draft included which vessels should be subject to the guidelines, coverage of employee areas, criteria for embarking and disembarking, high door thresholds (coamings), alterations, methods for swimming pool access, elevator car size, guest room scoping, dispersion of wheelchair spaces in assembly areas, and visual emergency alarms. Comments on the ANPRM ranged from requesting the Board to exempt small passenger vessels to recommending that the Board concentrate its efforts on addressing large passenger vessels first. Based on public comments and other information collected, the Board has made changes to some of the provisions in the 2004 draft. The Board has also decided to address small passenger vessels after completing this rulemaking.

To facilitate the gathering of cost data necessary for the next step in this rulemaking which is the preparation of a regulatory assessment (costs and benefits) and a Notice of Proposed Rulemaking (NPRM), the Board is placing this revised draft in the rulemaking docket. In order to develop an accurate picture of the potential costs and benefits of this rulemaking, the Board intends to work closely with passenger vessel industry representatives and others who have data on both current costs and industry practices and the knowledge and skills to assess potential effects.

The Board is interested in receiving public comments on this entire second draft. Changes made in this draft from the November 26, 2004 draft are summarized in the supplementary information provided on the Board's Web site (http://www.access-board.gov). In addition, the supplementary information discusses the changes made to the draft plan for conducting the regulatory assessment.

Availability of Copies and Electronic Access

Single copies of this rulemaking may be obtained at no cost by calling the Access Board's automated publications order line (202) 272-0080, by pressing 2 on the telephone keypad, then 1 and requesting the second draft of the Passenger Vessels Guidelines. Persons using a TTY should call (202) 272-0082. Documents are available in alternate formats upon request. Persons who want a publication in an alternate format should specify the type of format (cassette tape, Braille, large print, or ASCII disk). Documents are also available on the Board's Web site (http://www.access-board.gov).

David L. Bibb,
Chair, Architectural and Transportation Barriers Compliance Board.

[FR Doc. E6-10576 Filed 7-6-06; 8:45 am]

BILLING CODE 8150-01-P